ENVIRONMENTAL PROTECTION AGENCY

[EPA-HQ-OPP-2018-0014; FRL-9984-05]

Product Cancellation Order for Certain Pesticide Registrations and Amendments To Terminate Uses

AGENCY: Environmental Protection Agency (EPA).

ACTION: Notice.

SUMMARY: This notice announces EPA's order for the cancellations and amendments to terminate uses, voluntarily requested by the registrants and accepted by the Agency, of the products listed in Table 1, Table 1A, Table 1B and Table 2 of Unit II, pursuant to the Federal Insecticide, Fungicide, and Rodenticide Act (FIFRA). This cancellation order follows an August 10, 2018 Federal Register Notice of Receipt of Requests from the registrants listed in Table 3 of Unit II to voluntarily cancel and amend to terminate uses of these product registrations. In the August 10, 2018 notice, EPA indicated that it would issue an order implementing the cancellations and amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and amendments to terminate uses. Any distribution, sale, or use of the products subject to this cancellation order is permitted only in accordance with the terms of this order, including any existing stocks provisions.

DATES: The cancellations and amendments are effective November 15, 2018.

FOR FURTHER INFORMATION CONTACT: Christopher Green, Information Technology and Resources Management Division (7502P), Office of Pesticide Programs, Environmental Protection Agency, 1200 Pennsylvania Ave. NW, Washington, DC 20460-0001; telephone number: (703) 347-0367; email address: green.christopher@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellations and amendments to delete uses, as requested by registrants, of products registered under FIFRA section 3 (7 U.S.C. 136a). These registrations are listed in sequence by registration number in Table 1, Table 1A, Table 1B, and Table 2 of this unit. The cancellations of the two triforine products, EPA Reg. Nos. 239-2435 and 82534-1, are the last registered products containing this active ingredient. The cancellation of the ten siduron products listed in Table 1A, are the last registered products containing this active ingredient.

Table 1—Product Cancellations
Registration No. | Company No. | Product name | Active ingredients
100-797 | 100 | Apron XL WS | Metalaxyl-M.
100-1065 | 100 | Scimitar WP Insecticide in Water-Soluble Packs | Lambda-Cyhalothrin.
100-1174 | 100 | Impasse Termite Bait | Lufenuron.
100-1181 | 100 | Zyrox Plus Termite Baiting Technology | Lufenuron.
100-1257 | 100 | Lufenuron Termite Bait | Lufenuron.
239-2435 | 239 | Ortho Rose Disease Control | Triforine.
279-3312 | 279 | Capture 8% ME Insecticide/Miticide | Bifenthrin.
279-9533 | 279 | Fluthiacet-Methyl WSP Herbicide | Fluthiacet-methyl.
352-392 | 352 | DuPont Velpar L Herbicide | Hexazinone.
352-570 | 352 | DuPont DPX-E9636 75 DF Herbicide | Rimsulfuron.
352-572 | 352 | DuPont DPX-79406 75 DF Herbicide | Nicosulfuron & Rimsulfuron.
352-573 | 352 | DuPont Synchrony STS DF Herbicide | Chlorimuron & Thifensulfuron.
352-574 | 352 | DuPont Synchrony STS SP Herbicide | Chlorimuron & Thifensulfuron.
352-576 | 352 | DuPont Staple Herbicide | Pyrithiobac-sodium.
352-581 | 352 | DuPont Velpar DF Herbicide | Hexazinone.
352-585 | 352 | Basis Gold Herbicide | Atrazine, Nicosulfuron & Rimsulfuron.
352-599 | 352 | DuPont Synchrony STS Herbicide | Chlorimuron & Thifensulfuron.
352-619 | 352 | DuPont Steadfast ATZ Herbicide | Atrazine, Nicosulfuron & Rimsulfuron.
352-650 | 352 | DuPont Synchrony XP (MP) Herbicide | Chlorimuron & Thifensulfuron.
352-667 | 352 | DuPont Stout (MP) | Thifensulfuron & Nicosulfuron.
352-721 | 352 | DuPont Stout Herbicide | Thifensulfuron & Nicosulfuron.
352-749 | 352 | DuPont STS07 Broadleaf Herbicide | Thifensulfuron & Chlorimuron.
352-759 | 352 | DuPont DPX-QFU30 (MP) Herbicide | Thifensulfuron & Rimsulfuron.
1448-52 | 1448 | Busan 40 | Metam-Potassium.
1448-74 | 1448 | PNMDC | Metam-Potassium.
1839-30 | 1839 | BTC 824 P100 | Alkyl* dimethyl benzyl ammonium chloride *(100% C14).
2693-11 | 2693 | Supertrop Antifouling Bottom Paint 46 Red | Cuprous oxide.
2693-12 | 2693 | Bottomkote Antifouling 49 Red | Cuprous oxide.
2693-19 | 2693 | Viny-Lux Vinyl Antifouling Paint 350 Red | Cuprous oxide.
2693-33 | 2693 | Offshore Antifouling Red 1605 | Cuprous oxide.
2693-54 | 2693 | International NB Supertrop Antifouling Paint NB1609 | Cuprous oxide.
2693-58 | 2693 | Bottomkote Antifouling Paint 59 Green | Cuprous oxide.
2693-59 | 2693 | Bottomkote Antifouling Paint 69 Blue | Cuprous oxide.
2693-90 | 2693 | Red Hand Antifouling 72 Blue | Cuprous oxide.
2693-97 | 2693 | Supertrop Antifouling Paint 45 Blue | Cuprous oxide.
2693-121 | 2693 | Super Viny-Lux Vinyl Antifouling Red 459 | Cuprous oxide.
2693-135 | 2693 | XUU 284 | Cuprous oxide.
2693-143 | 2693 | Ultra-Kote 2669H Blue | Cuprous oxide.
2693-146 | 2693 | Seaproof Paint X-255 Evertox Blue Copper Anti-Fouling | Cuprous oxide.
2693-147 | 2693 | Regatta 3900 Anti-Fouling Red Latex | Cuprous oxide.
2693-165 | 2693 | Seaproof X-254 Evertox Green Copper Anti-Fouling | Cuprous oxide.
2693-166 | 2693 | Seaproof 42 90 Tritox Red Anti-Fouling | Cuprous oxide.
2693-167 | 2693 | Seaproof X-253 Evertox Red Copper Anti-Fouling | Cuprous oxide.
2693-168 | 2693 | Regatta Vinyltex 55 Fast Red Antifouling | Cuprous oxide.
2693-169 | 2693 | Seaproof 1600 Plastic Red Copper Antifouling | Cuprous oxide.
2693-171 | 2693 | Baltimore Red Copper Paint | Cuprous oxide.
2693-192 | 2693 | Ultra with Bio-Lux Blue | Cuprous oxide & 1,3,5-Triazine-2,4-diamine, N-cyclopropyl-N′-(1,1-dimethylethyl)-6-(methylthio)-.
2693-201 | 2693 | Ultra Plus Blue | Cuprous oxide & 1,3,5-Triazine-2,4-diamine, N-cyclopropyl-N′-(1,1-dimethylethyl)-6-(methylthio)-.
2693-205 | 2693 | Ultra Plus Blue | Cuprous oxide & 1,3,5-Triazine-2,4-diamine, N-cyclopropyl-N′-(1,1-dimethylethyl)-6-(methylthio)-.
2693-219 | 2693 | Super KL Plus with Irgarol II Black | 1,3,5-Triazine-2,4-diamine, N-cyclopropyl-N′-(1,1-dimethylethyl)-6-(methylthio)- & Cuprous oxide.
2935-389 | 2935 | Nusan 30 E.C. | 2- (Thiocyanomethylthio) benzothiazole.
4787-65 | 4787 | Azoxystrobin Technical | Azoxystrobin.
9688-107 | 9688 | Chemsico Insect Spray | Piperonyl butoxide & Pyrethrins.
9688-110 | 9688 | Chemsico Patio Spray | Piperonyl butoxide; Tetramethrin & Permethrin.
9688-150 | 9688 | Chemsico Aerosol Insecticide PP | Pyrethrins & Piperonyl butoxide.
9688-225 | 9688 | Chemsico Insect Spray PP | Pyrethrins & Piperonyl butoxide.
9688-228 | 9688 | Chemsico Wasp & Hornet Killer FEQ 24 | Piperonyl butoxide; Permethrin & Tetramethrin.
9688-236 | 9688 | Chemsico Aerosol Insecticide TPP | Piperonyl butoxide; Permethrin & Tetramethrin.
9688-247 | 9688 | Chemsico Wasp & Hornet Killer FEQ C24 | Piperonyl butoxide; Permethrin & Tetramethrin.
9688-273 | 9688 | Chemsico Insecticide RTU OP | Pyrethrins.
10324-195 | 10324 | Maquat 615 SRTU-BOV | 1-Decanaminium, N,N-dimethyl-N-octyl-, chloride; 1-Octanaminium, N,N-dimethyl-N-octyl-, chloride; 1-Decanaminium, N-decyl-N,N-dimethyl-, chloride & Alkyl* dimethyl benzyl ammonium chloride *(50%C14, 40%C12, 10%C16).
15136-9 | 15136 | Wavicide-06 Plus | Ethanol & Glutaraldehyde.
23566-10 | 23566 | Racing Vinyl 640 Red | Cuprous oxide.
23566-18 | 23566 | America's Cup 681 Blue | Cuprous oxide.
34160-1 | 34160 | Pine-Oil Disinfectant Detergent Concentrate | Pine oil.
61282-53 | 61282 | Biophene Liquid Disinfectant | 2-Benzyl-4-chlorophenol; 4-tert-Amylphenol & o-Phenylphenol (NO INERT USE).
61842-43 | 61842 | DuPont Velpar Alfamax MP Herbicide | Diuron & Hexazinone.
61842-44 | 61842 | DuPont Velpar K-4 Max Herbicide | Diuron & Hexazinone.
63838-6 | 63838 | Dibrom NPA | 2,2-Dibromo-3-nitrilopropionamide.
73770-1 | 73770 | Fresh Aire | Alkyl* dimethyl benzyl ammonium chloride *(50%C14, 40%C12, 10%C16).
81964-3 | 81964 | Acephate 90% SP | Acephate.
82523-1 | 82523 | Aerisguard Bioactive Coil Treatment | Triclosan.
82534-1 | 82534 | Triforine Technical | Triforine.
83122-1 | 83122 | Pro-Tek 50 Fabric/Apparel (Garment) Treatment | Permethrin.
83122-2 | 83122 | Bond-It Insect Repellent Fabric Treatment | Permethrin.
88751-1 | 88751 | A-Liquid | Silver & Copper as elemental.
OR-030029 | 19713 | Drexel Captan 4L Fungicide | Captan.
OR-040004 | 100 | Fulfill | Pymetrozine.
OR-040005 | 100 | Fulfill | Pymetrozine.
OR-900019 | 10163 | Treflan TR-10 Granules | Trifluralin.
OR-940037 | 62719 | Sonalan HFP | Ethalfluralin.
OR-950013 | 100 | Fusilade DX | Fluazifop-P-butyl.
OR-990039 | 100 | Bravo 825 | Chlorothalonil.
OR-990040 | 100 | Bravo 720 | Chlorothalonil.
VA-110002 | 100 | Ridomil Gold SL | Metalaxyl-M.
WA-040024 | 100 | Fusilade DX Herbicide | Fluazifop-P-butyl.
WA-050002 | 5481 | Orthene 75 S Soluble Powder (Water Soluble Packets) | Acephate.

Table 1A—Product Cancellations
Registration No. | Company No. | Product name | Active ingredients
538-60 | 538 | Starter Fertilizer with Crabgrass Preventer | Siduron.
961-297 | 961 | Greenfield Modern Trebl | Siduron.
961-309 | 961 | Greenskeeper Crabgrass Killer Contains 4.6% Tupersan | Siduron.
961-319 | 961 | Lebanon Spring Seeding Crabgrass Preventer with Grass Food | Siduron.
8378-63 | 8378 | Shaw's Turf Food with Tupersan 350 | Siduron.
8378-64 | 8378 | Shaw's Tupersan 470 Granules | Siduron.
9198-50 | 9198 | The Andersons Fertilizer with 3.5% Tupersan | Siduron.
10163-213 | 10163 | Tupersan Herbicide | Siduron.
10163-214 | 10163 | Tupersan 70 Herbicide | Siduron.
10163-216 | 10163 | Siduron Technical | Siduron.

The registrants for the pesticide product registrations listed in Table 1A have requested to the Agency via letter, that the cancellations become effective December 31, 2020.

Table 1B—Product Cancellation
Registration No. | Company No. | Product name | Active ingredients
432-1412 | 432 | Armada 50 WP | Triadimefon & Trifloxystrobin.

The registrant for the pesticide product registration listed in Table 1B has requested to the Agency via letter, that the cancellation becomes effective at the federal level on December 31, 2018.

Table 2—Product Registration Amendments To Terminate Uses
Registration No. | Company No. | Product name | Active ingredients | Uses to be terminated
1839-208 | 1839 | BTC 1455 | Alkyl* dimethyl benzyl ammonium chloride *(95%C14, 3%C12, 2%C16) | Golf courses and golf commercial turf/lawns.
19713-691 | 19713 | Drexel Chlorothalonil Technical | Chlorothalonil | Antimicrobial uses.
47000-103 | 47000 | CT 10 Concentrate | Permethrin | Golf courses.
53883-379 | 53883 | Quali-Pro Prodiamine 4L | Prodiamine | Use in drainage ditches for California & Arizona.
61842-13 | 61842 | Sinbar Herbicide | Terbacil | Grass grown for seed (Grass seed crops).
61842-14 | 61842 | Terbacil Technical Herbicide | Terbacil | Grass grown for seed (Grass seed crops).
61842-27 | 61842 | Sinbar WDG (Status—Inactive), (Sinbar WDG Agricultural Herbicide—(Status—Active) | Terbacil | Grass grown for seed (Grass seed crops).
70553-2 | 70553 | Permethrin Technical | Permethrin | Terrestrial food and feed uses.

Table 3 of this unit includes the names and addresses of record for all registrants of the products in Table 1, Table 1A, Table1B and Table 2 of this unit, in sequence by EPA company number. This number corresponds to the first part of the EPA registration numbers of the products listed in Table 1, Table 1A, Table1B and Table 2 of this unit.

Table 3—Registrants of Cancelled and Amended Products
EPA Company No. | Company name and address
100 | Syngenta Crop Protection, LLC, 410 Swing Rd., P.O. Box 18300, Greensboro, NC 27419-8300.
239 | The Scotts Company, d/b/a The Ortho Group, 14111 Scottslawn Rd., Marysville, OH 43041.
279 | FMC Corporation, 2929 Walnut St., Philadelphia, PA 19104.
352 | E. I. Du Pont De Nemours and Company, Attn: Manager, US Registration, DuPont Crop Protection, Chestnut Run Plaza (CRP 720/2E5), 974 Centre Rd., Wilmington, DE 19805.
432 | Bayer Environmental Science, A Division of Bayer CropScience, LP, 2 T. W. Alexander Dr., Research Triangle Park, NC 27709.
538 | Scotts Company, The, 14111 Scottslawn Rd., Marysville, OH 43041.
961 | Lebanon Seaboard Corporation, 1600 East Cumberland St., Lebanon, PA 17042.
1448 | Buckman Laboratories, Inc., 1256 North McLean Blvd., Memphis, TN 38108.
1839 | Stepan Company, 22 W. Frontage Rd., Northfield, IL 60093.
2693 | International Paint, LLC, 6001 Antoine Dr., Houston, TX 77091.
2935 | Wilbur-Ellis Company, LLC, 2903 S. Cedar Ave., Fresno, CA 93725.
4787 | Cheminova A/S, Agent Name: FMC Corporation, 1735 Market St., Room 1971, Philadelphia, PA 19103.
5481 | Amvac Chemical Corporation, 4695 MacArthur Ct., Suite 1200, Newport Beach, CA 92660-1706.
8378 | Knox Fertilizer Company, Inc., Agent Name: Fred Betz Regulatory Strategies, 922 Melvin Rd., Annapolis, MD 21403.
9198 | The Andersons, Inc., 1947 Briarfield Blvd, P.O. Box 119, Maumee, OH 43537.
9688 | Chemsico, A Division of United Industries Corp., P.O. Box 142642, St. Louis, MO 63114-0642.
10163 | Gowan Company, P.O. Box 5569, Yuma, AZ 85366.
10324 | Mason Chemical Company, 2744 E. Kemper Rd., Cincinnati, OH 45241.
15136 | Medical Chemical Corp., 19430 Van Ness Ave., Torrance, CA 90501.
19713 | Drexel Chemical Company, P.O. Box 13327, Memphis, TN 38113-0327.
23566 | International Paint, LLC, 6001 Antoine Dr., Houston, TX 77091.
34160 | Lighthouse for The Blind of Houston, Agent Name: Laird's Regulatory Consultants, Inc., 17804 Braemar Pl., Leesburg, VA 20175-7046.
47000 | Chem-Tech, Ltd., 620 Lesher Pl., Lansing, MI 48912.
53883 | Control Solutions, Inc., 5903 Genoa Red Bluff Rd., Pasadena, TX 77507.
61282 | Hacco, Inc., 620 Lesher Pl., Lansing, MI 48912.
61842 | Tessenderlo Kerley, Inc., Agent Name: Pyxis Regulatory Consulting, Inc., 4110 136th Street Ct. NW, Gig Harbor, WA 98332.
62719 | Dow Agrosciences, LLC, 9330 Zionsville Rd., Indianapolis, IN 46268-1054.
63838 | Enviro Tech Chemical Services, Inc., 500 Winmoore Way, Modesto, CA 95358.
70553 | Meghmani Organics Limited, Meghmani House, Shree Nivas Society, Agent Name: Butz Consulting, LLC, 13411 Marble Rock Dr., Chantilly, VA 20151.
73770 | Dial Manufacturing, Inc., 25 South 51st Ave., Phoenix, AZ 85043.
81964 | Chemstarr, LLC, Agent Name: Pyxis Regulatory Consulting, Inc., 4110 136th Street Ct NW, Gig Harbor, WA 98332.
82523 | Aeris Environmental, Ltd., Agent Name: Scientific & Regulatory Consultants, Inc., 201 W. Van Buren Street, Columbia City, IN 46725.
82534 | Summit Agro North America Holding Corporation, Agent Name: Pyxis Regulatory Consulting, Inc., 4110 136th Street Ct. NW, Gig Harbor, WA 98332.
83122 | Garnik Industries, LLC, 261 5th Ave., Suite 2001, New York, NY 10016.
88751 | Toto USA, Inc., Agent Name: Technology Sciences Group, Inc., 1150 18th St. NW, Suite 1000, Washington, DC 20036.

III. Summary of Public Comments Received and Agency Response to Comments

During the public comment period provided, EPA received no comments in response to the August 10, 2018 Federal Register notice announcing the Agency's receipt of the requests for voluntary cancellations and amendments to terminate uses of products listed in Table 1, Table 1A, Table1B, and Table 2 of Unit II.

IV. Cancellation Order

Pursuant to FIFRA section 6(f) (7 U.S.C. 136d(f)(1)), EPA hereby approves the requested cancellations and amendments to terminate uses of the registrations identified in Table 1, Table 1A, Table1B, and Table 2 of Unit II. Accordingly, the Agency hereby orders that the product registrations identified in Table 1 and Table 2 of Unit II are canceled and amended to terminate the affected uses effective November 15, 2018. The product registrations identified in Table 1A of Unit II will be canceled effective December 31, 2020. The product registration identified in Table 1B of Unit II will be canceled effective December 31, 2018. Any distribution, sale, or use of existing stocks of the products identified in Table 1, Table 1A, Table1B, and Table 2 of Unit II in a manner inconsistent with any of the provisions for disposition of existing stocks set forth in Unit VI will be a violation of FIFRA.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 10, 2018 (83 FR 39746) (FRL-9980-44). The comment period closed on September 10, 2018.

VI. Provisions for Disposition of Existing Stocks

Existing stocks are those stocks of registered pesticide products which are currently in the United States and which were packaged, labeled, and released for shipment prior to the effective date of the action. The existing stocks provision for the products subject to this order is as follows.

A. For Product 10324-195

The registrant has requested to the Agency via letter, an 18-month sell thru period so the registrant may continue to sell and distribute existing stocks of this product for 18 months after the effective date of the cancellation, which is the date of publication of this cancellation order in the Federal Register.

B. For Products in Table 1

Registrants may continue to sell and distribute existing stocks of these products for 1 year after the effective date of the cancellation, which is the date of publication of this cancellation order in the Federal Register.

C. For Products in Table 1A

Registrants may continue to sell and distribute existing stocks of these products until December 31, 2021, which is 1 year after the effective date of the cancellation.

D. For Products in Table 1B

The registrant may continue to sell and distribute existing stocks of this product until December 31, 2019, which is 1 year after the effective date of the cancellation.

Thereafter, the registrants are prohibited from selling or distributing products listed in Table 1, Table 1A, and Table 1B of Unit II, except for export in accordance with FIFRA section 17 (7 U.S.C. 136o) or for proper disposal.

Now that EPA has approved product labels reflecting the requested amendments to terminate uses, registrants are permitted to sell or distribute products listed in Table 2 of Unit II under the previously approved labeling for 18 months after the effective date of the cancellation, which is the date of publication of this order in the Federal Register, unless other restrictions have been imposed. Thereafter, registrants will be prohibited from selling or distributing the products whose labels include the terminated uses identified in Table 2 of Unit II, except for export consistent with FIFRA section 17 or for proper disposal. Persons other than the registrant may sell, distribute, or use existing stocks of canceled products and products whose labels include the terminated uses until supplies are exhausted, provided that such sale, distribution, or use is consistent with the terms of the previously approved labeling on, or that accompanied, the canceled products and terminated uses.

Authority: 7 U.S.C. 136 et seq.

Dated: October 16, 2018.
Delores Barber,
Director, Information Technology and Resources Management Division, Office of Pesticide Programs.

[FR Doc. 2018-24970 Filed 11-14-18; 8:45 am]

BILLING CODE 6560-50-P